DEPARTMENT OF ENERGY

Federal Energy Regulatory Commission

[Project No. 2550-030]

Wiscons8, LLC; Notice of Application Accepted for Filing and Soliciting Motions To Intervene and Protests

Take notice that the following hydroelectric application has been filed with the Commission and is available for public inspection.

a. Type of Application: Subsequent License.

b. Project No.: 2550-030.

c. Date Filed: November 29, 2024.

d. Applicant: Wiscons8, LLC.

e. Name of Project: Weyauwega Hydroelectric Project.

f. Location: On the Waupaca River in the City of Weyauwega in Waupaca County, Wisconsin.

g. Filed Pursuant to: Federal Power Act, 16 U.S.C. 791(a)-825(r).

h. Applicant Contact: Mr. Dwight Shanak, Manager, Wiscons8, LLC, N3311 Sunrise Lane, Waupaca, WI 54981; telephone at (715) 412-3150; email at modernhydro@sbcglobal.net.

i. FERC Contact: Arash Barsari, Project Coordinator, Great Lakes Branch, Division of Hydropower Licensing; telephone at (202) 502-6207; email at Arash.JalaliBarsari@ferc.gov.

j. Deadline for filing motions to intervene and protests: December 15, 2025 by 5:00 p.m. Eastern Time.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Weyauwega Hydroelectric Project (P-2550-030).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

Project Description: The existing project consists of a dam that includes three 12-foot-long Tainter gates with a crest elevation of 770.8 National Geodetic Vertical Datum of 1929 (NGVD 29); and a powerhouse that includes an intake structure with a trashrack with 2-inch clear bar spacing and a 210-kilowatt vertical Francis turbine-generator unit. The dam creates an impoundment that has a surface area of 235 acres at a normal surface elevation of 770.2 feet NGVD 29. From the impoundment, water flows through the powerhouse to a tailrace that empties into the Waupaca River.

Electricity generated at the powerhouse is transmitted to the electric grid via 4.16-kilovolt generator lead lines, a step-up transformer, and a 25-foot-long transmission line.

Project recreation facilities include: (1) a boat ramp that provides impoundment access; (2) an approximately 270-foot-long access road for the boat ramp; (3) a 100-foot-long portage trail; and (4) a hand-carry boat put-in site downstream of the dam.

Wiscons8 proposes to continue operating the project in a run-of-river mode and maintaining the impoundment elevation at 770.2 ± 0.25 feet NGVD 29. Wiscons8 also proposes to continue maintaining the portage trail and put-in site. The put-in site also includes a dock that Wiscons8 proposes to maintain for public tailrace fishing. Wiscons8 is not proposing to maintain the boat ramp or 270-foot-long access road as project facilities.

l. A copy of the application can be viewed on the Commission's website at http://www.ferc.gov using the “eLibrary” link. Enter the docket number excluding the last three digits in the docket number field to access the document (P-2550). For assistance, contact FERC Online Support.

You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural Schedule: The application will be processed according to the following preliminary schedule. Revisions to the schedule will be made as appropriate.

Milestone | Target date
Issue Notice of Scoping | October 2025.
Filing of Scoping Comments | November 2025.
Filing of Motions to Intervene and Protests | December 2025.
Issue Notice of Ready for Environmental Analysis | December 2025.
Filing of Comments, Recommendations, Terms, Conditions, and Prescriptions | February 2026.
Filing of Reply Comments | March 2026.

p. Final amendments to the application must be filed with the Commission no later than 30 days from the issuance date of the notice of ready for environmental analysis.

Dated: October 14, 2025.
Debbie-Anne A. Reese,
Secretary.

[FR Doc. 2025-20700 Filed 11-21-25; 8:45 am]

BILLING CODE 6717-01-P